DEPARTMENT OF ENERGY

Federal Energy Regulatory Commission

[Docket No. RP01-473-000]

Stingray Pipeline Company; Notice of Proposed Changes in FERC Gas Tariff

July 5, 2001.

Take notice that on July 2, 2001 Stingray Pipeline Company (Stingray) tendered for filing as part of its FERC Gas Tariff, Third Revised Volume No. 1, the tariff sheets listed in Attachment A to the filing, to become effective date of August 1, 2001.

On January 29, 2001 Starfish Pipeline Company, LLC (Starfish) purchased Stingray from Deepwater Holdings, L.L.C. (Deepwater). Starfish is equally owned by Shell Gas Transmission, LLC (SGT) and Enterprise Products Operating, L.P. Pursuant to a transition services agreement between the parties, an affiliate of Deepwater agreed to operate Stingray through July 31. Effective August 1, 2001, the Deepwater affiliate will no longer operate Stingray. The revised tariff sheets in Attachment A reflect the necessary modifications to accomplish the change in operator as more fully explained in the application.

Stingray states that a copy of this filing has been served upon its customers.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17324 Filed 7-10-01; 8:45 am]

BILLING CODE 6717-01-P